DEPARTMENT OF THE TREASURY

Submission for OMB Review; Comment Request

April 20, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 30, 2000 to be assured of consideration.

Internal Revenue Service (IRS)

OMB Number: 1545-0066.

Regulation Project Number: INTL-15-91 NPRM.

Type of Review: Extension.

Title: Taxation of Gain or Loss From Certain Nonfunctional Currency Transactions (Section 988 Transactions).

Description: Certain taxpayers are allowed to elect a mark to market method of accounting for currency gains and losses and to integrate certain foreign currency denominated dividend, rent and royalty payments with hedges thereof.

Respondents: Business or other for-profit, Individuals or households.

Estimated Number of Respondents/Recordkeeping: 1,500.

Estimated Burden Hours Per Respondent/Recordkeeping: 40 minutes.

Frequency of Response: Annually, Other (one-time only).

Estimated Total Reporting/Recordkeeping Burden: 1,000 hours.

OMB Number: 1545-1517.

Form Number: IRS Form 1099-MSA.

Type of Review: Extension.

Title: Distribution From Medical Savings Account (MSA) or Medicare+Choice MSA.

Description: This form is used to report distributions from a medical savings account as set forth in section 220(h).

Respondents: Business or other for-profit.

Estimated Number of Respondents: 10,336.

Estimated Burden Hours Per Respondent: 8 minutes.

Frequency of Response: Annually.

Estimated Total Reporting Burden: 3,617 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-10462 Filed 4-26-00; 8:45 am]

BILLING CODE 4830-01-P